ENVIRONMENTAL PROTECTION AGENCY

40 CFR Part 770

[EPA-HQ-OPPT-2011-0380; FRL-9393-9]

RIN 2070-AJ44

Formaldehyde; Third-Party Certification Framework for the Formaldehyde Standards for Composite Wood Products; Extension of Comment Period

AGENCY: Environmental Protection Agency (EPA).

ACTION: Proposed rule; extension of comment period.

SUMMARY: EPA issued a proposed rule in the Federal Register of June 10, 2013, concerning a third-party certification framework for the formaldehyde standards for composite wood products. This document extends the comment period from August 9, 2013 to August 26, 2013. After receiving requests for an extension, EPA believes it is appropriate to extend the comment period in order to give stakeholders additional time to assess the impacts of the proposal, review technical documents in the docket, and prepare comments.

DATES: EPA is extending the comment date for a proposed rule published June 10, 2013 at 78 FR 34796. Comments, identified by docket identification (ID) number EPA-HQ-OPPT-2011-0380, must be received on or before August 26, 2013.

ADDRESSES: Follow the detailed instructions as provided under ADDRESSES in the Federal Register document of June 10, 2013.

FOR FURTHER INFORMATION CONTACT: For technical information contact: Erik Winchester, National Program Chemicals Division (7404T), Office of Pollution Prevention and Toxics, Environmental Protection Agency, 1200 Pennsylvania Ave. NW., Washington, DC 20460-0001; telephone number: (202) 564-6450; email address: winchester.erik@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register of June 10, 2013 (78 FR 34796) (FRL-9342-4). EPA is hereby extending the comment period, which was set to end on August 9, 2013, to August 26, 2013.

To submit comments, or access the docket, please follow the detailed instructions as provided under ADDRESSES in the June 10, 2013, Federal Register document. If you have questions, consult the technical person listed under FOR FURTHER INFORMATION CONTACT.

List of Subjects in 40 CFR Part 770

Environmental protection, Composite wood products, Formaldehyde, Reporting and recordkeeping, Third-party certification.

Dated: July 17, 2013.
James Jones,
Acting Assistant Administrator, Office of Chemical Safety and Pollution Prevention.

[FR Doc. 2013-17671 Filed 7-22-13; 8:45 am]

BILLING CODE 6560-50-P